OFFICE OF PERSONNEL MANAGEMENT

5 CFR Part 630

RIN 3206-AK72

Absence and Leave; SES Annual Leave

Correction

In rule document E6-17389 beginning on page 61633 in the issue of Thursday, October 19, 2006, make the following corrections:

(1) On page 61633, in the second column, in the second paragraph, in the last line, “employee's grade” should read “employee's grade or pay level.”.

(2) On page 61634, in the first column, in the 14th line, “performance appose of allowing a” should read:

“performance appraisal system.

The purpose of allowing a”

[FR Doc. Z6-17389 Filed 10-30-06; 8:45 am]

BILLING CODE 1505-01-D